DEPARTMENT OF AGRICULTURE

Forest Service

Arapaho and Roosevelt National Forests and Pawnee National Grassland; Boulder and Gilpin County, CO; Eldora Mountain Resort Ski Area Projects

AGENCY: Forest Service, USDA.

ACTION: Notice of intent to prepare an environmental impact statement.

SUMMARY: The Arapaho and Roosevelt National Forests and Pawnee National Grassland is preparing an Environmental Impact Statement (EIS) to consider and disclose the anticipated environmental effects of implementing select projects from the 2011 Master Plan for Eldora Mountain Resort (Eldora). Through the identification of opportunities and constraints at the ski area, the proposed projects are designed to allow Eldora to meet guest expectations for a safe, quality, recreational experience by providing appropriate lifts, terrain, and guest services at the resort.

DATES: Comments concerning the scope of the analysis must be received by August 6, 2012. The draft environmental impact statement is expected to be available for public review in June 2013 and the final environmental impact statement is expected in April 2014.

ADDRESSES: Send written comments to: Eldora EIS Projects; Eldora EIS NEPA Contractor; P.O. Box 2729; Frisco, CO 80443. Comments may also be sent via email to: info@EldoraEIS.com, or by facsimile to (970) 668-5798. Include “Eldora EIS Projects” in the subject line. Comments may also be submitted online at www.EldoraEIS.com. The scoping notice and map can be reviewed/downloaded at www.EldoraEIS.com.

FOR FURTHER INFORMATION CONTACT: Additional information related to the proposed project can be obtained from the project Web site, www.EldoraEIS.com, by contacting the Eldora EIS NEPA Contractor, Travis Beck, at (970) 668-3398 ext. 103, or by emailing: info@EldoraEIS.com. Further information will also be made available at two public open houses: one on July 18, 2012, from 5-8 p.m. at the Boulder Ranger District of the Arapaho and Roosevelt National Forests and Pawnee National Grassland, located at 2140 Yarmouth Avenue, Boulder, CO 80301; and one on July 19, 2012, from 5-8 p.m. at the Nederland Community Center, located at 750 Highway 72 North, Nederland, CO 80466.

Individuals who use telecommunication devices for the deaf (TDD) may call the Federal Information Relay Service (FIRS) at 1-800-877-8339 between 8 a.m. and 8 p.m., Eastern Time, Monday through Friday.

SUPPLEMENTARY INFORMATION:

Purpose and Need for Action: The Forest Service is preparing an EIS to respond to Eldora's request to implement projects from their accepted Master Plan. In the Master Plan, Eldora identified deficiencies in several areas that detract from the guest experience and skier safety at the resort. In order to meet the needs and expectations of existing and potential guests and provide a safe skiing experience, the Forest Service has identified a purpose and need to: (1) Improve the reliability of lift and terrain offerings; (2) address skier safety concerns during prevalent wind events; (3) provide additional Intermediate to Expert ability level terrain and a new, more natural terrain experience; (4) provide new and upgraded lift infrastructure to improve the quality of the alpine ski experience; and (5) expand and improve on-mountain guest services.

Proposed Action: The project area includes approximately 615 acres of National Forest System (NFS) lands and 435 acres of private lands. The Forest Service only maintains jurisdiction over the NFS lands; however, to fulfill its obligations under the National Environmental Policy Act (NEPA) the Forest Service will analyze the entire project area for direct, indirect and cumulative effects. The proposed projects would add approximately 105 acres of traditional terrain and include approximately 80 acres of gladed terrain projects. Much of the traditional terrain construction will require tree removal for the area of the trails, approximating 105 acres of removal, although a more accurate quantity of tree removal will be disclosed in the EIS as all proposed trails may not necessitate complete tree removal. Each project component is discussed below. Additional detail can be viewed at www.EldoraEIS.com.

1. Placer Express Lift and Trails—Install a new six-person chairlift and create approximately 30 acres of traditional terrain and approximately 30 acres of gladed terrain projects. A Forest Plan amendment would be required to adjust the Special Use Permit (SUP) boundary to include approximately 70 acres in the northwestern portion of the Placer Pod. To facilitate construction, on-going maintenance and emergency access, a bridge crossing Middle Boulder Creek and two road segments would be constructed to connect Hessie Road (north of Middle Boulder Creek) to the proposed Placer Express bottom terminal site. The bridge would be gated year-round and restricted to administrative use.

2. Additional Back Side Terrain—Construct three new traditional trails (two Intermediate and one Expert ability level trail), a new gladed area (Bryan Glades II), and an addition to the Salto Glades on the back side of the resort. New terrain in this area would provide approximately 20 acres of new traditional terrain and approximately 30 acres of gladed terrain projects.

3. Trail Widening—Widen Lower Diamondback and Lower Ambush trails on the back side of Eldora to improve skier circulation.

4. Jolly Jug Lift and Trails—Install a new four or six-person chairlift and construct seven new Intermediate trails (approximately 55 acres of terrain) and approximately 20 acres of Intermediate ability level glades. A Forest Plan amendment would be required to adjust the SUP boundary to include approximately 17 acres of the southern portion of the Jolly Jug Pod.

5. Snowmaking—Expand snowmaking coverage to include all new traditional trails (not in any of the gladed areas) totaling approximately 105 acres.

6. Roads and Utilities—Build new road spurs and install utilities to construct and maintain the following proposed lifts and facilities: Placer Express Lift, Jolly Jug Express Lift, Challenge Lift, The Lookout Facility, and Challenge Mountain Facility. Construction and maintenance access for the proposed Jolly Jug Express bottom terminal would utilize an existing road. The existing snowmaking infrastructure would deliver drinking water to The Lookout and Challenge Mountain facilities, as is the current method for The Lookout Facility. On-site septic systems would accommodate sewage deposal for the proposed Lookout Facility and Challenge Mountain Facility.

7. Corona Lift—Remove the existing four-person Corona Lift and replace with an upgraded six-person chairlift.

8. Challenge and Cannonball Lifts—Remove the existing Challenge and Cannonball lifts and replace with a single, upgraded six-person chairlift in an alignment that provides direct out-of-base access to the summit of Challenge Mountain.

9. The Lookout Facility—Remodel the Lookout facility increasing from 3,000 square feet to between 7,700 and 9,700 square feet.

10. The Challenge Mountain Facility—Construct a new approximately 850 seat guest services facility, between 16,000 and 20,000 square feet in size, at the summit of Challenge Mountain.

11. Parking—Construct additional guest parking on private lands. This project component is not subject to ARP authorization.

12. Vegetation Management Projects—Eldora is currently preparing a Vegetation Management Plan in accordance with the SUP. Vegetation management projects may be incorporated into this EIS as components of the proposed action or may be incorporated into a separate, future NEPA project.

Responsible Official: The responsible official is the Forest Supervisor for the Arapaho and Roosevelt National Forests and Pawnee National Grassland.

Nature of Decision To Be Made: Based on the analysis that will be documented in the forthcoming EIS, the responsible official will decide whether or not to implement, in whole or in part, the proposed action or another alternative that may be developed by the Forest Service as a result of scoping.

Permits or Licenses Required: Based on proposed projects, a Clean Water Act Section 404 Permit from the U.S. Army Corps of Engineers may be required prior to potential implementation of project components.

Scoping Process: This notice of intent initiates the scoping process, which guides the development of the environmental impact statement. The Forest Service is soliciting comments from Federal, State, and local agencies and other individuals or organizations that may be interested in or affected by implementation of the proposed projects. Public questions and comments regarding this proposal are an integral part of this environmental analysis process. Input provided by interested and/or affected individuals, organizations and governmental agencies will be used to identify resource issues that will be analyzed in the Draft EIS. The Forest Service will identify significant issues raised during the scoping process, and use them to formulate alternatives, prescribe mitigation measures and project design features, or analyze environmental effects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered.

Dated: June 27, 2012.
Sylvia Clark,
District Ranger.

[FR Doc. 2012-16300 Filed 7-5-12; 8:45 am]

BILLING CODE 3410-11-P